DEPARTMENT OF LABOR

Employment and Training Administration

[TA-W-56,770]

Charleston Hosiery, Inc. Currently Known as Renfro Charleston, LLC Fort Payne, AL; Amended Certification Regarding Eligibility To Apply for Worker Adjustment Assistance and Alternative Trade Adjustment Assistance

In accordance with Section 223 of the Trade Act of 1974 (19 U.S.C. 2273), and Section 246 of the Trade Act of 1974, (26 U.S.C. 2813), as amended, the Department of Labor issued a Certification of Eligibility to Apply for Worker Adjustment Assistance and Alternative Trade Adjustment Assistance on April 7, 2005, applicable to workers of Charleston Hosiery, Inc., Fort Payne, Alabama. The notice was published in the Federal Register on May 16, 2005 (70 FR 25862).

At the request of a company official, the Department reviewed the certification for workers of the subject firm. The workers are engaged in the production of socks.

The subject firm originally named Charleston Hosiery, Inc. was renamed Renfro Charleston, LLC on November 16, 2006 due to a change in ownership. The State agency reports that workers wages at the subject firm are being reported under the Unemployment Insurance (UI) tax account for Renfro Charleston, LLC, Fort Payne, Alabama. Accordingly, the Department is amending the certification to properly reflect this matter.

The intent of the Department's certification is to include all workers of Charleston Hosiery, Inc. who were adversely affected by increased company imports.

The amended notice applicable to TA-W-56,770 is hereby issued as follows:

All workers of Charleston Hosiery, currently known as Renfro Charleston, LLC, Fort Payne, Alabama, who became totally or partially separated from employment on or after March 7, 2004, through April 7, 2007, are eligible to apply for adjustment assistance under Section 223 of the Trade Act of 1974, and are also eligible to apply for alternative trade adjustment assistance under Section 246 of the Trade Act of 1974.

Signed at Washington, DC this 8th day of December 2006.
Linda G. Poole,
Certifying Officer, Division, of Trade Adjustment Assistance.

[FR Doc. E6-21786 Filed 12-20-06; 8:45 am]

BILLING CODE 4510-30-P